NATIONAL FOUNDATION ON THE ARTS AND HUMANITIES

National Endowment for the Arts

Proposed Collection; Comment Request; 30-Day Notice for the “2022 Arts Supplement to the General Social Survey”

AGENCY: National Endowment for the Arts.

ACTION: Notice.

SUMMARY: The National Endowment for the Arts (NEA), as part of its continuing effort to reduce paperwork and respondent burden, conducts a preclearance consultation program to provide the general public and Federal agencies with an opportunity to comment on proposed and/or continuing collections of information in accordance with the Paperwork Reduction Act of 1995. This program helps to ensure the requested data can be provided in the desired format, reporting burden (time and financial resources) is minimized, collection instruments are clearly understood, and the impact of collection requirements on respondents can be properly assessed. Currently, the NEA is soliciting comments concerning the proposed information collection on arts participation in the U.S: Clearance Request for NEA 2022 Arts Supplement to the General Social Survey. Copies of this ICR, with applicable supporting documentation, may be obtained by visiting www.Reginfo.gov.

DATES: Written comments must be submitted to the office listed in the address section below within 30 days from the date of this publication in the Federal Register.

ADDRESSES: Written comments and recommendations for proposed information collection requests should be sent within 30 days of publication of this Notice to www.reginfo.gov/public/do/PRAMain. Find this particular information collection request by selecting “National Endowment for the Arts” under “Currently Under Review;” then check “Only Show ICR for Public Comment” checkbox. Once you have found this information collection request, select “Comment,” and enter or upload your comment and information. Alternatively, comments should be sent to the Office of Information and Regulatory Affairs, Attn: OMB Desk Officer for the National Endowment for the Arts, Office of Management and Budget, Room 10235, Washington, DC 20503 202/395-7316, within 30 days from the date of this publication in the Federal Register.

SUPPLEMENTARY INFORMATION: The NEA is particularly interested in comments which:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: National Endowment for the Arts.

Title: 2022 Arts Supplement to the General Social Survey.

OMB Number: 3135-0132.

Frequency: One time.

Affected Public: American adults.

Estimated Number of Respondents: 750.

Estimated Time per Respondent: 10 minutes.

Total Burden Hours: 125 hours.

Total Annualized Capital/Startup Costs: 0.

Total Annual Costs (operating/maintaining systems or purchasing services): 0.

Description

This request is for clearance of the 2022 Arts Supplement to the General Social Survey (GSS) to be conducted by the National Opinion Research Center on behalf of the National Science Foundation. The Arts Supplement to the GSS will provide important data on the impact the COVID-19 pandemic has had on recent arts participation. The survey data will also complement data collected through the planned 2022 Survey of Public Participation in the Arts. The data are circulated to interested researchers, and they are the basis for a range of NEA reports and independent research publications. An arts supplement to the GSS was also conducted in 2012 and 2016. The data will be made available to the public through the agency's data archive, the National Archive of Data on Arts and Culture (NADAC). These data will also be used by the NEA as a contextual measure for one or more of its strategic goals.

Dated: May 3, 2022.
Meghan Jugder,
Support Services Specialist, Office of Administrative Services & Contracts, National Endowment for the Arts.

[FR Doc. 2022-09789 Filed 5-5-22; 8:45 am]

BILLING CODE 7537-01-P